DEPARTMENT OF DEFENSE

Department of the Navy

Final Notice of a Finding of No Significant Impact for a Programmatic Environmental Assessment Implementing a Wind Energy Program at Marine Forces Reserve Facilities Located Across the United States

AGENCY: Department of the Navy, DoD.

ACTION: Final Finding of No Significant Impact (FONSI) for a Programmatic Environmental Assessment (PEA) Implementing a Wind Energy Program at Marine Forces Reserve (MARFORRES) Facilities Located Across the United States.

SUMMARY: Pursuant to the Council on Environmental Quality Regulations (40 CFR parts 1500-1508) implementing procedural provisions of the National Environmental Policy Act (NEPA), 42 United States Code 4321, and the Marine Corps NEPA directive (Marine Corps Order P5090.2A), the Department of the Navy gives final notice that the FONSI for the PEA implementing the MARFORRES Wind Energy Program will not have a significant adverse impact on the environment. In accordance with 42 U.S.C. 4321 and 40 CFR 1501.4(e)(2), a preliminary FONSI for this action was published in the April 18, 2011 Federal Register (76 FR Page 21712). No comments were received regarding the preliminary FONSI. MARFORRES has reviewed the conclusion of the PEA, and agrees with the finding of no significant impact. This notice serves as the Final FONSI for the PEA implementing the MARFORRES Wind Energy Program. The preliminary FONSI and the PEA are adopted in final with no change. Therefore, the preparation of an Environmental Impact Statement (EIS) is not required. Site-specific, focused Environmental Assessments (EA's) will be tiered from the PEA to evaluate site-specific impacts at individual MARFORRES facilities identified as having the potential for the development of wind energy.

DATES: Effective date: These findings are effective as of July 12, 2011.

FOR FURTHER INFORMATION CONTACT: Alain D. Flexer, Energy Manager, Marine Forces Reserve, 2000 Opelousas, New Orleans, LA 70146, 504-697-9571; (this is not a toll-free number).

Dated: July 12, 2011.
L.M. Senay,
Lieutenant, Judge Advocate General's Corps, U.S. Navy, Federal Register Liaison Officer.

[FR Doc. 2011-17980 Filed 7-15-11; 8:45 am]

BILLING CODE 3810-FF-P